DEPARTMENT OF THE INTERIOR

National Park Service

Notice of Availability of Director's Order Concerning Accessibility for Visitors With Disabilities in National Park Service Programs, Facilities and Services

AGENCY: National Park Service, Interior.

ACTION: Public Notice.

SUMMARY: The National Park Service (NPS) is updating its policies and procedural guidance concerning accessibility for visitors with disabilities in NPS programs, facilities and services. It is the goal of the NPS to ensure that all people, including the estimated 54 million citizens with disabilities, have the highest level of accessibility that is reasonable to our programs, facilities and services in conformance with applicable laws and regulations. Directors Order #42 establishes operational policies and procedural guidance concerning accessibility for visitors with disabilities in NPS programs, facilities and services.

DATES: Information from interested parties will be accepted until February 23, 2000.

ADDRESSES: Send information or suggestions to David Park, National Park Service, Park Facility Management Division, 1849 C Street, NW, Room 7252, Washington, D.C. 20240.

FOR FURTHER INFORMATION CONTACT: David Park at 202/565-1255.

SUPPLEMENTARY INFORMATION: The NPS is converting and updating its current system of internal instructions to a three-level system consisting of: (1) NPS Management Policies; (2) Director's Orders; and (3) Reference Manuals/Handbooks and other helpful information. When these documents contain new policy or procedural requirements that may affect parties outside the NPS, this information is being made available for public comment. Visitor accessibility policies were first addressed in Special Directive 83-3, issued in 1983. Those policies were subsequently updated in the 1988 NPS Management Policies. The five objectives of Director's Order #42 are to:

1. Institutionalize within the day-to-day operation of the NPS, the policies, organizational relationships and implementation strategies necessary to accomplish the long range goal of providing the highest level of accessibility that is reasonable for people with disabilities in all programs, facilities and services;

2. Provide further guidance and direction regarding the NPS interpretation of laws and policies;

3. Establish a framework for the effective implementation of actions necessary to achieve the highest level of accessibility that is reasonable;

4. Encourage the implementation of “universal design” principles within the NPS; and

5. Promote the infusion of access for persons with disabilities into the day-to-day operation of the NPS, rather than as a “separate” or “special” program.

Organizations and individuals with an interest in NPS policy and procedural guidance concerning accessibility for visitors with disabilities in NPS programs, facilities and services are invited to provide information or suggestions that should be considered by NPS during the review process. The proposed Director's Order #42 is posted at http://www.nps.gov/refdesk/DOrders/index.htm#drafts. If you are unable to access the Internet, and would like to receive a copy by mail, please contact David Park at the address given above.

Dated: February 1, 2000.
John Gingles,
Acting Chief, Park Facility Management Division.

[FR Doc. 00-2609 Filed 2-4-00; 8:45 am]

BILLING CODE 4310-70-M